ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Arlington, VA, Wednesday through Friday, July 15-17, 2009, at the times and location noted below.

DATES: The schedule of events is as follows:

Wednesday, July 15, 2009

9:30-Noon Planning and Evaluation Committee (Closed to Public).

1:30-3 p.m. Technical Programs Committee.

3-4 Budget Committee.

Thursday, July 16, 2009

9:30-5 p.m. Ad Hoc Committee Meetings (Closed to Public).

Friday, July 17, 2009

9:30-Noon Committee of the Whole: Board structure discussion.

1:30-3 p.m. Board Meeting.

ADDRESSES: All meetings will be held at the Westin Arlington Gateway Hotel, 801 North Glebe Road, Arlington, VA 22203.

FOR FURTHER INFORMATION CONTACT: For further information regarding the meetings, please contact David Capozzi, Executive Director, (202) 272-0010 (voice) and (202) 272-0082 (TTY).

SUPPLEMENTARY INFORMATION: At the Board meeting scheduled on Friday, July 17, the Access Board will consider the following agenda items:

• Election of Vice Chairs for Standing Committees

• Approval of the draft March 2009 Board Meeting Minutes

• Technical Programs Committee Report

• Budget Committee Report

• Planning and Evaluation Committee Report

• Accessible Design in Education

• Acoustics

• Airport Terminal Access

• Emergency Transportable Housing

• Information and Communications Technologies

• Outdoor Developed Areas

• Passenger Vessels

• Public Rights-of-Way

• Transportation Vehicles

• Election Assistance Commission Report

• Executive Director's Report

• ADA and ABA Guidelines; Federal Agency Updates

All meetings are accessible to persons with disabilities. An assistive listening system, computer assisted real-time transcription (CART), and sign language interpreters will be available at the Board meeting. Persons attending Board meetings are requested to refrain from using perfume, cologne, and other fragrances for the comfort of other participants.

David M. Capozzi,
Executive Director.

[FR Doc. E9-15502 Filed 6-30-09; 8:45 am]

BILLING CODE 8150-01-P